DEPARTMENT OF COMMERCE

National Oceanic and Atmospheric Administration

Proposed Information Collection; Comment Request; Marine Recreational Information Program

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 8, 2012.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument(s) and instructions should be directed to Rob Andrews, (301) 482-1805 or Rob.Andrews@noaa.gov.

SUPPLEMENTARY INFORMATION:

I. Abstract

This request is for revision of a current information collection.

Marine recreational anglers are surveyed to collect catch and effort data, fish biology data, and angler socioeconomic characteristics. These data are required to carry out provisions of the Magnuson-Stevens Fishery Conservation and Management Act (16 U.S.C. 1801 et seq.), as amended, regarding conservation and management of fishery resources.

Marine recreational fishing catch and effort data are collected through a combination of mail surveys, telephone surveys and on-site intercept surveys with recreational anglers. Amendments to the Magnuson-Stevens Fishery Conservation and Management Act (MSA) require the development of an improved data collection program for recreational fisheries. To meet these requirements, NOAA Fisheries has designed and tested new approaches for sampling and surveying recreational anglers. Revision: A mail survey that samples from a residential address frame will be implemented to collect data on the number of marine recreational anglers and the number of recreational fishing trips. This survey will replace the Coastal Household Telephone Survey, which has traditionally been used to collect recreational fishing effort data. In addition, the sampling and estimation procedures for the access-point angler intercept survey have been revised to ensure better coverage and representation of recreational fishing activity.

This revision also eliminates several data collections that were implemented to test revised sampling procedures. The following data collections will be eliminated: Longitudinal Sampling for Coastal Household Telephone Survey, a Directory Frame Telephone Survey of Licensed Marine Recreational Anglers, the Angler Diary Recruitment Screening Questionnaire, and Biological Data Collection.

II. Method of Collection

Information will be collected through mail surveys and on-site intercept interviews.

III. Data

OMB Control Number: 0648-0052.

Form Number: None.

Type of Review: Regular submission (revision of a current information collection).

Affected Public: Individuals or households.

Estimated Number of Respondents: 611,282.

Estimated Time per Response: 10 minutes for mail surveys of anglers, and 5 minutes for intercepted anglers.

Estimated Total Annual Burden Hours: 66,239 (12,745 new).

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 5, 2012.
Gwellnar Banks,
Management Analyst, Office of the Chief Information Officer.

[FR Doc. 2012-5698 Filed 3-8-12; 8:45 am]

BILLING CODE 3510-22-P